DEPARTMENT OF THE INTERIOR

Bureau of Land Management

[NV-930-1430-ET; NVN-83210]

Notice of Proposed Withdrawal and Opportunity for Public Meeting; Nevada

AGENCY: Bureau of Land Management, Interior.

ACTION: Notice.

SUMMARY: The Secretary of Interior proposes to withdraw on behalf of the Bureau of Land Management (BLM) approximately 729.78 acres of public lands for a period of 5 years to protect lands within Gold Point and Ione Townsites for planning purposes, and in aid of special legislation to be introduced before the current Congress. This notice temporarily segregates the lands for up to 2 years from location and entry under the United States mining laws while the 5-year withdrawal application is being processed.

DATES: Comments and requests for a public meeting must be received by July 12, 2007.

ADDRESSES: Comments and meeting requests should be sent to the Assistant Field Manager, BLM, Tonopah Field Station, 1553 South Main Street, P.O. Box 911, Tonopah, Nevada 89049.

FOR FURTHER INFORMATION CONTACT: Wendy Seley, BLM, Tonopah Field Station, (775) 482-7800, or at the above address or Jacqueline Gratton, BLM, Nevada State Office, (775) 861-6532, or P.O. Box 12000, Reno, Nevada 89520.

SUPPLEMENTARY INFORMATION: The applicant is the BLM at the address stated above. The petition/application requests the Secretary of the Interior to withdraw, for 5 years, the following described public lands from location and entry under the United States mining laws, subject to valid existing rights:

Mount Diablo Meridian

T. 13 N., R. 39 E.,

Sec. 32, E½SE¼SE¼;

Sec. 33, NE¼SE¼ and S½S½;

Sec. 34, lots 9 to 26, inclusive, S½NW¼.

The areas described aggregate 442.01 acres in Nye County.

T. 7 S., R. 41½ E.,

Sec. 3, SE¼NW¼, N½NE¼SW¼, SW¼NE¼SW¼, W½SW¼, W½SE¼SW¼, SE¼SE¼SW¼, and SW¼SW¼SE¼;

Sec. 4, SE¼SE¼;

Sec. 9, lot 1;

Sec. 10, N½NW¼NW¼NE¼, N½NE¼NE¼NW¼, NW¼NE¼NW¼, and N½NW¼NW¼.

The areas described aggregate 287.77 acres in Esmeralda County.

The BLM petition/application has been approved by the Assistant Secretary, Land and Minerals Management. Therefore, it constitutes a withdrawal proposal of the Secretary of the Interior (43 CFR 2310.1-3(e)).

The purpose of the withdrawal is to protect the status quo of the lands in aid of special legislation proposed to be introduced before the current Congress.

The application will be processed in accordance with the regulations set forth in 43 CFR part 2300.

The use of a right-of-way, interagency, or a cooperative agreement would not adequately constrain non-discretionary uses which could adversely affect the passage of the proposed legislation.

No water rights would be needed to fulfill the purpose of this withdrawal.

Records relating to the application may be examined by interested parties at the address of the BLM office stated above.

For a period of 90 days from the date of publication of this notice, all persons who wish to submit comments, suggestions, or objections in connection with the proposed withdrawal may present their views in writing to the BLM Tonopah Field Station, at the address noted above. Facsimiles, telephone calls, and electronic mails are unacceptable means of notification.

Comments, including names and street addresses of respondents, will be available for public review at the BLM Tonopah Field Station, at the address noted above during regular business hours 8 a.m. to 4:30 p.m., Monday through Friday, except holidays. Before including your address, phone number, e-mail address, or other personal identifying information in your comments be advised that your entire comment—including your personal identifying information—may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Assistant Field Manager within 90 days from the date of publication of this notice. If the authorized officer determines that a public meeting will be held, a notice of the time and place will be published in the Federal Register at least 30 days before the scheduled date of the meeting.

(Authority: 43 CFR 2310.3-1)

Dated: April 11, 2007.
Patrick Gubbins,
Acting Deputy State Director, Natural Resources, Lands & Planning.

[FR Doc. E7-7200 Filed 4-12-07; 8:45 am]

BILLING CODE 4310-HC-P